ENVIRONMENTAL PROTECTION AGENCY

[ER-FRL-8992-6]

Environmental Impacts Statements; Notice of Availability

Responsible Agency: Office of Federal Activities, General Information (202) 564-1399 or http://www.epa.gov/compliance/nepa/.

Weekly receipt of Environmental Impact Statements.

Filed 08/30/2010 through 09/03/2010.

Pursuant to 40 CFR 1506.9.

Notice:

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20100360, Draft EIS, USFS, CA, Gemmill Thin Project, Updated Information on Four Alternatives, Chanchellula Late-Successional Reserve, Shasta-Trinity National Forest, Trinity County, CA, Comment Period Ends: 10/25/2010, Contact: Bobbie DiMonte Miller 530-226-2425.

EIS No. 20100361, Revised Draft EIS, FHWA, CO, PROGRAMMATIC—I-70 Mountain Corridor Tier 1 Project, from Glenwood Springs and C-470, Proposes to Increase Capacity, Improve Accessibility and Mobility, and Decrease Congestion, Colorado, Garfield, Eagle, Summit, Clear Creek, and Jefferson Counties, CO, Comment Period Ends: 11/08/2010, Contact: Monica Pavilik, P.E. 720-963-3012.

EIS No. 20100362, Draft EIS, USFS, CA, Big Pony Project, Proposes to Reduce Fire Hazard to Permanent Research Plots and to Areas Within and Adjacent to Wildland Urban Interface near Tennant, Goosenest Ranger District, Klamath National Forest, Siskiyou County, CA, Comment Period Ends: 10/25/2010, Contact: Wendy Coats 530-841-4470.

EIS No. 20100363, Draft EIS, NOAA, CA, Gray's Reef National Marine Sanctuary (GRNMS) Research Areas Designation, Establish a Research Area, Implementation, GA, Comment Period Ends: 12/08/2010, Contact: George Sedberry 912-598-2345.

EIS No. 20100364, Final EIS, USN, 00, Northwest Training Range Complex (NWTRC), Support and Conduct Current, Emerging, and Future Training, and Research Development, Test and Evaluation (RDT&E) Activities, WA, OR, and CA, Wait Period Ends: 10/11/2010, Contact: Kimberly Kler 360-396-0927.

EIS No. 20100365, Final EIS, BLM, NV, Silver State Solar Energy Project, Construction and Operation of a 400-megawatt Photovoltaic Solar Plant and Associated Facilities on Public Lands, Application, Right-of-Way Grant, Primm and Clark Counties, NV, Wait Period Ends: 10/11/2010, Contact: Greg Helseth 702-515-5173.

EIS No. 20100366, Final EIS, USFWS, MT, Montana Department of Natural Resources and Conservation Forested Trust Lands Habitat Conservation Plan, Issuance of Incidental Take Permit, Implementation, MT, Wait Period Ends: 10/11/2010, Contact: Kathleen Ports 406-542-4330.

Amended Notices

EIS No. 20100322, Draft EIS, USAF, 00, Powder River Training Complex Project, Proposal to Improve Airspace for Training, Primarily, B-1 Aircrews at Ellsworth AFB, South Dakota, and B-52 Aircrews at Minot AFB, North Dakota, Comment Period Ends: 11/15/2010, Contact: Linda Devine 757-964-9434.

Revision to FR Notice Published 08/20/2010: Change to Contact Phone Number and Change Comment Period from 11/17/2010 to 11/15/2010.

Dated: September 7, 2010.
Cliff Rader,
Environmental Protection Specialist, Office of Federal Activities.

[FR Doc. 2010-22617 Filed 9-9-10; 8:45 am]

BILLING CODE 6560-50-P